DEPARTMENT OF HOMELAND SECURITY

[Docket Number DHS-2022-0031]

Agency Information Collection Activities: IMMVI Veterans Portal, Webform 1601-0032

AGENCY: Department of Homeland Security (DHS).

ACTION: 30-Day notice and request for comments.

SUMMARY: The Department of Homeland Security, will submit the following Information Collection Request (ICR) to the Office of Management and Budget (OMB) for review and clearance in accordance with the Paperwork Reduction Act of 1995. DHS previously published this information collection request (ICR) in the Federal Register on Thursday, June 2, 2022 for a 60-day public comment period. No comment was received by DHS. The purpose of this notice is to allow additional 30-days for public comments.

DATES: Comments are encouraged and will be accepted until September 12, 2022. This process is conducted in accordance with 5 CFR 1320.1.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: On February 2, 2021 President Biden signed Executive Order 14012 Restoring Faith in Our Legal Immigration Systems and Strengthening Integration and Inclusion Efforts for New Americans. The role of the White House Domestic Policy Council (DPC) is to convene executive departments and agencies (agencies) to coordinate the formulation and implementation of the Administration's domestic policy objectives. Consistent with that role, the DPC shall coordinate the Federal Government's efforts to welcome and support immigrants, including refugees, and to catalyze State and local integration and inclusion efforts. In furtherance of these goals, the DPC shall convene a Task Force on New Americans, which shall include members of agencies that implement policies that impact immigrant communities.

In response to E.O. 14012, on July 2, 2021, the Secretaries of Homeland Security and Veterans Affairs announced a new joint initiative, the Immigrant Military Members and Veterans Initiative (IMMVI), to support our Nation's noncitizen service members, veterans, and their immediate family members and directed their departments to identify and prioritize the return of military service members, veterans, and their immediate family members who were unjustly removed from the United States and ensure that they receive the benefits to which they may be entitled.

The information to be collected for self-disclosure would include: A-Number, USCIS Receipt Numbers (if any), Name, Date of Birth, Country of Residence, Email, Phone Number, Branch and Dates of Military Service, Address, reason for requesting assistance, and Name and Contact Information of Representative, if applicable.

To carry out the goals of IMMVI, DHS is proposing this new data collection to offer noncitizen current and former military members and their families an opportunity to seek assistance from DHS. The purpose of this information collection is to achieve efficiencies in making contact with individuals, better understand their needs, and track and report the number and types of inquiries received. This information will assist DHS in improving access to immigration services and VA health benefits. DHS plans to collect relevant information to provide assistance at the point the individual submits this information on the new website for benefits and immigration assistance. The information collected through this public facing webform will be voluntarily provided by the users. A new webform hosted on dhs.gov will be established to allow for individuals to submit the necessary information to make contact with the government to seek assistance. Additionally, the government provides an email address for those who are not able to access the webform. The government will then reach out to the individual to provide them with the necessary information needed to request immigration or VA benefits. The progress of the inquiries will be tracked in a DHS case management system.

The non-citizen current or former servicemember or their family member will submit their information through a webform on dhs.gov. The information will be transmitted to government systems and shared with the cooperating DHS components and agencies assisting the former military members and their families. All information related to the individual's request and action taken by the government will be noted in the case management system for tracking and appropriate follow through and action. If the collection of information impacts small businesses or other small entities (Item 5 of OMB Form 83-I), describe any methods used to minimize burden.

All information received through the DHS website will be reviewed by trained DHS federal staff assigned to IMMVI and stored in a DHS case management system. No information will be shared with other agencies without the appropriate privacy releases from the individuals accessing the portal. All information received through the portal and any actions taken in response to the information collected will be stored in a DHS case management system.

This is a new information collection request.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: IMMVI Veterans Portal, Webform 1601—NEW.

OMB Number: 1601-0032.

Frequency: Annually.

Affected Public: Public.

Number of Respondents: 500.

Estimated Time per Respondent: 1.

Total Burden Hours: 13,535.00.

Robert Dorr,
Executive Director, Business Management Directorate.

[FR Doc. 2022-17300 Filed 8-10-22; 8:45 am]

BILLING CODE 9112-FL-P